DEPARTMENT OF LABOR

Employment and Training Administration

[TA-W-37,004]

Chester County Sportswear Including Workers of SkilStaf, Inc., Henderson, TN; Amended Certification Regarding Eligibility To Apply for Worker Adjustment Assistance

In accordance with Section 223 of the Trade Act of 1974 (19 U.S.C. 2273) the Department of Labor issued a Certification of Eligibility to Apply for Worker Adjustment Assistance on November 10, 1999, applicable to workers of Chester County Sportswear, located in Henderson, Tennessee. This notice was published in the Federal Register on December 28, 1999 (64 FR 72692).

At the request of the Company, the Department reviewed the certification for workers of the subject firm. New information shows that workers at Chester County Sportswear are considered to be employees of SkilStaf, Inc. The workers were engaged in employment related to the production of men's casual slacks and various sportswear.

Based on these findings, the Department is amending the certification to include workers of SkilStaf, Inc. employed at the Henderson, Tennessee facility of the subject firm.

The intent of the Department's certification is to include all workers of the subject firm adversely affected by increased imports.

The amended notice applicable to TA-W-37,004 is hereby issued as follows:

All workers of Chester County Sportswear, including workers employed SkilStaf, Inc. employed at Chester County Sportswear, Henderson, Tennessee who became totally or partially separated from employment on or after October 15, 1998 through November 10, 2001 are eligible to apply for adjustment assistance under Section 223 of the Trade Act of 1974.

Signed at Washington, DC this 14th day of January, 2000.
Grant D. Beale,
Program Manager, Office of Trade Adjustment Assistance.

[FR Doc. 00-2501 Filed 2-3-00; 8:45 am]

BILLING CODE 4510-30-M